DEPARTMENT OF THE INTERIOR

Bureau of Land Management

[WY-921-1430-ET; WYW 141567]

Public Land Order No. 7434; Withdrawal of Public Land for Whiskey Mountain Bighorn Sheep Winter Range; Wyoming

AGENCY: Bureau of Land Management, Interior.

ACTION: Public Land Order.

SUMMARY: This order withdraws 1,430.92 acres of public lands from surface entry and mining for a period of 20 years to protect the Whiskey Mountain Bighorn Sheep Winter Range and capital investments in the area. The lands have been and will remain open to mineral leasing.

EFFECTIVE DATE: March 24, 2000.

FOR FURTHER INFORMATION CONTACT: Janet Booth, BLM Wyoming State Office, P.O. Box 1828, Cheyenne, Wyoming 82003, 307-775-6124.

By virtue of the authority vested in the Secretary of the Interior by Section 204 of the Federal Land Policy and Management Act of 1976, 43 U.S.C. 1714 (1994), it is ordered as follows:

1. Subject to valid existing rights, the following described public lands are hereby withdrawn from settlement, sale, location, or entry under the general land laws, including the United States mining laws (30 U.S.C. Ch. 2 (1994)), but not from leasing under the mineral leasing laws, to protect the Whiskey Mountain Bighorn Sheep Winter Range:

Sixth Principal Meridian

T. 40 N., R.105 W.,

Sec. 17, NE¼NE¼, S½N½, NE¼SW¼, and SE¼;

Sec. 18, NE¼NE¼;

Sec 20, E½NE¼;

Sec. 21, NW¼NW¼, S½NW¼, N½SW¼, and SE¼SW¼.

T. 41 N., R. 106 W.,

Sec. 17, NW¼SW¼, S½SW¼, and S½S½SE¼;

Sec. 18, NE¼NE¼ (excepting patent 906078), W½NE¼, SE¼NW¼, NE¼SW¼, and SE¼;

Sec. 19, lot 1, N½NE¼, and NE¼NW¼.

The areas described aggregate 1,430.92 acres in Fremont County.

2. The withdrawal made by this order does not alter the applicability of those public land laws governing the use of lands under lease, license, or permit, or governing the disposal of their mineral or vegetative resources other than under the mining laws.

3. This withdrawal will expire 20 years from the effective date of this order unless, as a result of a review conducted before the expiration date pursuant to Section 204(f) of the Federal Land Policy and Management Act of 1976, 43 U.S.C. 1714(f) (1994), the Secretary determines that the withdrawal shall be extended.

Dated: March 10, 2000.
Kevin Gover,
Assistant Secretary of the Interior.

[FR Doc. 00-7290 Filed 3-23-00; 8:45 am]

BILLING CODE 4310-22-P